DEPARTMENT OF DEFENSE

Department of the Army; Corps of Engineers

Withdrawal of Notice of Intent To Prepare a Programmatic Environmental Impact Statement for the Chesapeake Bay Oyster Recovery Project, Virginia & Maryland

AGENCY: Department of the Army, U.S. Army Corps of Engineers, DoD.

ACTION: Notice of intent; withdrawal.

SUMMARY: The U.S. Army Corps of Engineers (Corps), Baltimore and Norfolk Districts published a notice of intent (NOI) (74 FR 47927) for the Chesapeake Bay Oyster Recovery, MD and VA study on September 18, 2009. That NOI announced that the Corps Baltimore and Norfolk Districts would prepare a single, integrated Native Oyster Restoration Master Plan (master plan) and programmatic environmental impact statement (PEIS) for native oyster recovery in the entire Chesapeake Bay (inclusive of both Maryland and Virginia) and that the document would be tiered to the Programmatic EIS for Oyster Restoration in Chesapeake Bay Including the Use of a Native and/or Nonnative Oyster. In August 2009, the record of decision for Oyster Restoration in Chesapeake Bay including the Use of a Native and/or Non-Native Species was signed. The preferred alternative identified in the 2009 PEIS recommends “using a combination of alternatives that involves only the native Eastern oyster (Crassostrea virginica).” Consistent with the preferred alternative, the Corps will expand upon and further develop plans and recommendations for Chesapeake Bay native oyster restoration in the master plan. However since the master plan will not be identifying site-specific construction areas for restoration and the larger issue of oyster restoration Bay-wide, has been reviewed, a PEIS for the master plan is no longer warranted. Therefore, the Corps is withdrawing its NOI to prepare a PEIS.

FOR FURTHER INFORMATION CONTACT: Ms. Susan Conner, Norfolk District U.S. Army Corps of Engineers, Attn: CENAO-PM-PA, 803 Front Street, Norfolk, VA 23510. E-mail address: Susan.L.Conner@usace.army.mil and phone number: 757-201-7390 or Ms. Anna Compton, Baltimore District, U.S. Army Corps of Engineers, Attn: CENAB-PL-P, P.O, Box 1715, Baltimore, MD 21203. E-mail address: Anna.M.Compton@usace.army.mil and phone number 410-962-4633.

SUPPLEMENTARY INFORMATION:

1. The Baltimore District previously published a NOI (69 FR 68887) for the Chesapeake Bay Oyster Recovery, MD and VA study on November 26, 2004. That NOI indicated that the Baltimore District would prepare a draft EIS for native oyster (Crassostrea virginica) recovery activities within Maryland waters of the Chesapeake Bay. A second NOI (71 FR 14857) was published for the Chesapeake Bay Oyster Recovery, MD and VA study on March 24, 2006. That NOI announced that the Corps Baltimore and Norfolk Districts would prepare a single, integrated master plan and PEIS for native oyster recovery in the entire Chesapeake Bay.

2. A third NOI was published on September 18, 2009 (74 FR 47927) to announce that the timing of the master plan/PEIS was delayed so that the document could be tiered to the Programmatic EIS for Oyster Restoration in Chesapeake Bay Including the Use of a Native and/or Nonnative Oyster. In August 2009 the record of decision for Oyster Restoration in Chesapeake Bay including the Use of a Native and/or Non-Native Species was signed. The preferred alternative identified in the PEIS recommends “using a combination of alternatives that involves only the native Eastern oyster (Crassostrea virginica).” Consistent with the preferred alternative, the Corps will expand upon and further develop plans and recommendations for Chesapeake Bay native oyster restoration in the master plan. The master plan will not identify individual, site specific, construction projects. The master plan, instead, will develop a comprehensive approach to oyster restoration and will lay out a road map for a long-term, large-scale restoration of native oysters in the entire Chesapeake Bay. For each area identified for restoration and when Corps appropriations are received, necessary National Environmental Policy Act (NEPA) documents will be prepared to specifically describe the scope, scale, and details of construction of site specific oyster projects. Therefore the Programmatic EIS for Oyster Restoration in Chesapeake Bay Including the Use of a Native and/or Nonnative Oyster prepared in August 2009 is sufficient and appropriate to support the plans laid out in the master plan precluding the need for another PEIS. The master plan will incorporate science, policy, and experience from a number of sources to develop a comprehensive approach to oyster restoration in Maryland and Virginia. All suitable locations and techniques available for native oyster restoration will be identified and explored, and, if feasible, will be included in the Master Plan.

3. The master plan will be written in cooperation with the local sponsors, the Maryland Department of Natural Resources and Virginia Marine Resources Commission.

4. The Corps will conduct public meetings during the public review process for the draft master plan, which is scheduled for the fall of 2011, and will include interested parties throughout the development of the master plan through informational meetings, Web site postings, and other means.

Amy M. Guise,
Chief, Civil Project Development Branch.

[FR Doc. 2011-12916 Filed 5-24-11; 8:45 am]

BILLING CODE 3720-58-P